Title 3—

The President

Proclamation 8133 of April 26, 2007

Asian/Pacific American Heritage Month, 2007

By the President of the United States of America

A Proclamation

During Asian/Pacific American Heritage Month, we honor the many contributions citizens of Asian and Pacific Island ancestry have made to our great land.

The millions of Americans who trace their origins to nations in the Asian/Pacific region have enriched America. The entrepreneurship and innovation of Asian/Pacific Americans have strengthened our economy. Asian/Pacific Americans enrich our Nation with their strong values of love of family and community. Many Asian/Pacific Americans are serving the cause of freedom and peace around the world, and our Nation is grateful for their service. These good men and women defend our safety and contribute to the character and greatness of America.

To honor the achievements and contributions of Asian/Pacific Americans, the Congress, by Public Law 102-450, as amended, has designated the month of May each year as “Asian/Pacific American Heritage Month.”

NOW, THEREFORE, I, GEORGE W. BUSH, President of the United States of America, do hereby proclaim May 2007 as Asian/Pacific American Heritage Month. I call upon the people of the United States to learn more about the history of Asian/Pacific Americans and their many contributions to our Nation and to observe this month with appropriate programs and activities.

IN WITNESS WHEREOF, I have hereunto set my hand this twenty-sixth day of April, in the year of our Lord two thousand seven, and of the Independence of the United States of America the two hundred and thirty-first.

[FR Doc. 07-2169

Filed 4-30-07; 9:00 am]

BILLING CODE 3195-01-P